DEPARTMENT OF THE INTERIOR

Bureau of Land Management

[OR-936-1320-FL; HAG-05-0116; WAOR-60818]

Notice of Invitation—Federal Coal Exploration License Application, WAOR 60818; Correction

AGENCY: Bureau of Land Management, Interior.

ACTION: Notice of correction.

SUMMARY: In Federal Coal Exploration License Application, WAOR 60818, published February 25, 2005, as FR Doc. 05-3629, make the following correction:

On page 9377, T. 14 N., R. 10 W., Sec. 8, E½SW¼., should read T. 14 N., R. 1 W., Sec 8, E½NW¼.

Any party electing to participate in this exploration program shall notify, in writing, both the Oregon/Washington State Director, Bureau of Land Management at the address above and the Transalta Centralia Mining LLC, at 913 Big Hanaford Road, Centralia, Washington 98531. Such written notice must refer to serial number WAOR-60818 and be received no later than June 20, 2005, or 10 calendar days after the last publication of this notice in the Centralia Chronicle newspaper, whichever is later. This notice will be published once a week for two (2) consecutive weeks in the newspaper.

Dated: May 9, 2005.
John S. Styduhar,
Acting Chief, Branch of Land & Mineral Resources, Oregon/Washington.

[FR Doc. 05-10093 Filed 5-19-05; 8:45 am]

BILLING CODE 4310-33-P